DEPARTMENT OF ENERGY

Federal Energy Regulatory Commission

[Project No. 11847-003, Project No. 11848-003, Project No. 11849-003, and Project No. 11850-003]

Washington Hydro Energy Development Corporation, Skookum Hydro Inc.: Notice of Surrender of Preliminary Permits

November 19, 2003.

Take notice that the permittees for the subject projects have requested to surrender their preliminary permits because of the status of current economic conditions.

Project No. | Project name | Stream | State | Expiration date
11847-003 | Cumberland Creek | Cumberland Creek | WA | 11-30-2003
11848-003 | Mill Creek | Mill Creek | WA | 11-30-2003
11849-003 | O'Toole Creek | O'Toole Creek | WA | 11-30-2003
11850-003 | Skookum Creek | Skookum and Orsino Creeks | WA | 11-30-2003

The permits shall remain in effect through the thirtieth day after issuance of this notice unless that day is Saturday, Sunday, or holiday as described in 18 CFR 385.2007, in which case each permit shall remain in effect through the first business day following that day. New applications involving these project sites, to the extent provided for under 18 CFR part 4, may be filed on the next business day.

Magalie R. Salas,
Secretary.

[FR Doc. E3-00395 Filed 11-25-03; 8:45 am]

BILLING CODE 6717-01-P